ENVIRONMENTAL PROTECTION AGENCY

[FRL-7862-4]

Public Water System Supervision Program Revision for the State of Utah

AGENCY: Environmental Protection Agency (EPA).

ACTION: Notice.

SUMMARY: The State of Utah has revised its Public Water System Supervision (PWSS) Primacy Program by adopting regulations corresponding to the following six federal rules which revised 40 CFR part 141, the National Primary Drinking Water Regulations (NPDWRs): Interim Enhanced Surface Water Treatment Rule (IESWTR), Lead and Copper Rule Minor Revisions (LCRMR), Disinfectants/Disinfection Byproducts Rule (DBPR), Public Notification Rule (PNR), Consumer Confidence Rule (CCR), and Radionuclides Rule. Having determined that the State's revisions meet all applicable requirements in the Safe Drinking Water Act (SDWA), 42 U.S.C. 300f et seq., and EPA's implementing regulations at 40 CFR part 142, the EPA approves them, with the exception of the variance provisions. The State is not approved to grant variances under SDWA Section 1415(a)(1) (42 U.S.C. 300g(4)) and 40 CFR 142.10(d)(2) because the State has not adopted 40 CFR part 142, subpart G, which is a prerequisite. Utah's program revisions still meet minimum federal requirements because the authority to grant variances is optional for the State.

Today's approval action does not extend to public water systems in Indian country as that term is defined in 18 U.S.C. 1151. Please see SUPPLEMENTARY INFORMATION, Item B.

DATES: Any member of the public is invited to request a public hearing on this determination by February 18, 2005. Please see SUPPLEMENTARY INFORMATION, Item C, for information on requesting a hearing. If no hearing is requested or granted, then this action shall become effective February 18, 2005. If a public hearing is requested and granted, then this determination shall not become effective until such time following the hearing as the Regional Administrator (RA) issues an order affirming or rescinding this action.

ADDRESSES: Requests for a public hearing should be addressed to: Robert E. Roberts, Regional Administrator, c/o Marty Swickard (8P-W-MS), U.S. EPA, Region 8, 999 18th Street, Suite 300, Denver, CO 80202-2466.

All documents relating to this determination are available for inspection at the following locations: (1) U.S. EPA, Region 8, Municipal Systems Unit, 999 18th Street (4th Floor), Denver, CO 80202-2466; (2) Utah Department of Environment Quality (DEQ), Division of Drinking Water, 1950 West North Temple, Salt Lake City, UT 84114-4830.

FOR FURTHER INFORMATION CONTACT: Marty Swickard, Municipal Systems Unit, EPA, Region 8 (8P-W-MS), 999 18th Street, Suite 300, Denver, CO 80202-2466, 303-312-7021.

SUPPLEMENTARY INFORMATION: EPA approved Utah's application for assuming primary enforcement authority for the PWSS program, pursuant to section 1413 of the Safe Drinking Water Act (SDWA), 42 U.S.C. 300g-2, and 40 CFR part 142. DEQ administers Utah's PWSS program.

A. Why Are Revisions to State Programs Necessary?

States with primary PWSS enforcement authority must comply with the requirements of 40 CFR Part 142 for maintaining primacy. They must adopt regulations that are at least as stringent as the NPDWRs at 40 CFR Part 141 (see 40 CFR 142.10(a)). Changes to state programs may be necessary as federal primacy requirements change, since states must adopt all new and revised NPDWRs in order to retain primacy (40 CFR 142.12(a)).

B. How Does Today's Action Affect Indian Country (18 U.S.C. 1151) in Utah?

Utah is not authorized to carry out its PWSS program in Indian country. This includes lands within the exterior boundaries of the Skull Valley, Paiute, Navajo, Goshute, Ute Mountain, and Northwestern Shoshoni Indian Reservations; Indian country lands within the Uintah and Ouray Indian Reservation; and any other areas which are “Indian country” within the meaning of 18 U.S.C. 1151.

C. Requesting a Hearing

Any request for a public hearing shall include the following: (1) The name, address, and telephone number of the individual, organization, or other entity requesting a hearing; (2) a brief statement of the requesting person's interest in the RA's determination and of information that the requesting person intends to submit at such hearing; and (3) the signature of the individual making the request, or, if the request is made on behalf of an organization or other entity, the signature of the responsible official of the organization or other entity.

Notice of any hearing shall be given not less than fifteen (15) days prior to the time scheduled for the hearing. Such notice will be made by the RA in the Federal Register and in newspapers of general circulation in the State of Utah. A notice will also be sent to the person(s) requesting the hearing as well as to the State of Utah. The hearing notice will include a statement of purpose, information regarding time and location, and the address and telephone number where interested persons may obtain further information. A final determination will be made upon review of the hearing record.

Frivolous or insubstantial requests for a hearing may be denied by the RA. However, if a substantial request is made within thirty (30) days after this notice, a public hearing will be held.

Please bring this notice to the attention of any persons known by you to have an interest in this determination.

Dated: January 10, 2005.
Robert E. Roberts,
Regional Administrator, Region 8.

[FR Doc. 05-1031 Filed 1-18-05; 8:45 am]

BILLING CODE 6560-50-P